DEPARTMENT OF DEFENSE

Office of the Secretary

[Docket ID: DoD-2023-OS-0106]

Proposed Collection; Comment Request; Correction

AGENCY: Office of the Under Secretary of Defense for Intelligence and Security, (OUSD(I&S)), Department of Defense, (DoD).

ACTION: 60-Day information collection notice; correction.

SUMMARY: On November 1, 2023, the DoD published a notice in the Federal Register. Subsequent to publication of the notice, the information in the FOR FURTHER INFORMATION CONTACT section changed. This correction provides the updated information.

DATES: This correction is effective December 18, 2023.

SUPPLEMENTARY INFORMATION:

Correction

In the Federal Register of November 1, 2023, in FR Doc. 2023-24103, on page 74986, in the second and third columns, correct the FOR FURTHER INFORMATION CONTACT caption to read:

FOR FURTHER INFORMATION CONTACT: To request more information on this proposed information collection or to obtain a copy of the proposal and associated collection instruments, please write to Mr. Timothy Phillips, osd.pentagon.ousd-intel-sec.mesg.contact-aaro-mbx@mail.mil or call 703-545-8567.

Dated: December 13, 2023.
Aaron T. Siegel,
Alternate OSD Federal Register Liaison Officer, Department of Defense.

[FR Doc. 2023-27720 Filed 12-15-23; 8:45 am]

BILLING CODE 6001-FR-P